DEPARTMENT OF THE INTERIOR

National Park Service

[NPS-WASO-NAGPRA-NPS0035979; PPWOCRADN0-PCU00RP14.R50000]

Notice of Intent To Repatriate Cultural Items: University of California, Davis, Davis, CA, and University of California, Berkeley, Berkeley, CA

AGENCY: National Park Service, Interior.

ACTION: Notice.

SUMMARY: In accordance with the Native American Graves Protection and Repatriation Act (NAGPRA), the University of California, Davis (UC Davis) and University of California, Berkeley (UC Berkeley) intend to repatriate certain cultural items that meet the definition of unassociated funerary objects and certain cultural items that meet the definition of objects of cultural patrimony, and that have a cultural affiliation with the Indian Tribes or Native Hawaiian organizations in this notice. The cultural items were removed from Sacramento County, CA.

DATES: Repatriation of the cultural items in this notice may occur on or after July 10, 2023.

ADDRESSES: Megon Noble, NAGPRA Project Manager, University of California, Davis, 412 Mrak Hall, One Shields Avenue, Davis, CA 95616, telephone (530) 752-8501, email mnoble@ucdavis.edu, and Alex Lucas, Repatriation Coordinator, University of California, Berkeley, Office of Government and Community Relations, 120 California Hall, Berkeley, CA 94720, telephone (510) 570-0964, email nagpra-ucb@berkeley.edu.

SUPPLEMENTARY INFORMATION: This notice is published as part of the National Park Service's administrative responsibilities under NAGPRA. The determinations in this notice are the sole responsibility of UC Davis and UC Berkeley. The National Park Service is not responsible for the determinations in this notice. Additional information on the determinations in this notice, including the results of consultation, can be found in the summary or related records held by UC Davis and UC Berkeley.

Description

The four cultural items listed in this notice were removed from a site along the American River (CA-SAC-157) in Sacramento County, CA.

In 1981, as a part of an archeology course, Richard Burrill, Cordova Senior High School, removed archeological items from CA-SAC-157. Subsequently, these items were donated to the Folsom Historical Society, and in 2016, they were transferred to the UC Davis Shields Library. The items include two lots of unassociated funerary objects, only one of which is present and accounted for in the UC Davis collections. The unassociated funerary objects are one lot consisting of abalone shells and one lot consisting of projectile points, flakes, a scraper, a net weight, and a clamshell disc bead.

On February 16, 1942, Jeremiah B. Lillard, Harry Wanzer, and the Sacramento County Board of Education gifted archeological items from CA-SAC-157 to the Phoebe A. Hearst Museum at the University of California, Berkeley. These items include one lot of unassociated funerary objects consisting of sinkers, mortars, and pestles.

On June 3, 1938, the Phoebe A. Hearst Museum of Anthropology at the University of California, Berkeley, acquired archeological items from CA-SAC-157 that were excavated by Robert Fleming Heizer and the University of California Field Party. These items include one lot of objects of cultural patrimony consisting of awls, ulnas, points, pestles, mortars, shells, and flakes.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographical, historical, kinship, linguistic, oral traditional, and other relevant information or expert opinion.

Determinations

Pursuant to NAGPRA and its implementing regulations, and after consultation with the appropriate Indian Tribes and Native Hawaiian organizations, UC Davis and UC Berkeley have determined that:

• The three lots of cultural items described above are reasonably believed to have been placed with or near individual human remains at the time of death or later as part of the death rite or ceremony and are believed, by a preponderance of the evidence, to have been removed from a specific burial site of a Native American individual.

• The one lot of cultural items described above has ongoing historical, traditional, or cultural importance central to the Native American group or culture itself, rather than property owned by an individual.

• There is a relationship of shared group identity that can be reasonably traced between the cultural items and the Wilton Rancheria, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 10, 2023. If competing requests for repatriation are received, UC Davis and UC Berkeley must determine the most appropriate requestor prior to repatriation. Requests for joint repatriation of the cultural items are considered a single request and not competing requests. UC Davis and UC Berkeley are responsible for sending a copy of this notice to the Indian Tribe identified in this notice.

Authority: Native American Graves Protection and Repatriation Act, 25 U.S.C. 3003, and the implementing regulations, 43 CFR 10.8, 10.10, and 10.14.

Dated: May 31, 2023.
Melanie O'Brien,
Manager, National NAGPRA Program.

[FR Doc. 2023-12284 Filed 6-7-23; 8:45 am]

BILLING CODE 4312-52-P